DEPARTMENT OF COMMERCE

International Trade Administration

[A-428-825]

Stainless Steel Sheet and Strip in Coils From Germany Antidumping Duty Administrative Review; Extension of Time Limit

AGENCY: Import Administration, International Trade Administration, Department of Commerce.

SUMMARY: The Department of Commerce (the Department) is extending the time limit for the final results of the 2002-2003 administrative review of the antidumping duty order on stainless steel sheet and strip in coils from Germany from December 6, 2004, until December 13, 2004. This review covers one manufacturer/exporter of the subject merchandise to the United States and the period July 1, 2002, through June 30, 2003.

DATES: Effective Date: December 13, 2004.

FOR FURTHER INFORMATION CONTACT: Michael Heaney at (202) 482-4475 or Robert James at (202) 482-0649, AD/CVD Operations, Office 7, Administration, International Trade Administration, U.S. Department of Commerce, 14th Street and Constitution Avenue NW. Washington, DC 20230.

SUPPLEMENTARY INFORMATION: On August 6, 2004, the Department published in the Federal Register the preliminary results of the 2002-2003 administrative review of the antidumping duty order on stainless steel sheet and strip from Germany. See Stainless Steel Sheet and strip in Coils From Germany; Notice of Preliminary Results of Antidumping Duty Administrative Review, 69 FR 47900 (August 6, 2004). The final results of this review are currently due no later than December 6, 2004.¹

¹ The present statutory due date of December 4, 2004 falls on a Saturday; the Final Results would, therefore, be due the next business day, i.e., Monday, December 6, 2004.

Section 751(a)(3)(A) of the Tariff Act of 1930, as amended (the Act), requires the Department to issue the final results of an administrative review within 120 days after the date on which the preliminary results are published. However, if it is not practicable to complete an administrative review within the time specified, the administering authority (i.e., the Department) may extend the final results to no later than 180 days following the publication of the preliminary results. See 751(a)(3)(A) of the Act and section 351.213(h)(2) of the Department's regulations. In this case, the Department has determined it is not practicable to complete this review within the statutory time limit because of significant issues which require additional time to evaluate. These include: the proper treatment of certain equity transactions involving the respondent's parent firm, and various issues relating to the calculation of the respondent's cost of production.

Therefore, the Department is extending the time limit for completion of the preliminary results until December 13, 2004, in accordance with section 751(a)(3)(A) of the Act.

This notice is issued and published in accordance with section 751(a)(1) of the Act and section 351.213(h)(2) of the Department's regulations.

Dated: December 3, 2004.
Gary Taverman,
Acting Deputy Assistant Secretary for Import Administration.

[FR Doc. 04-27301 Filed 12-10-04; 8:45 am]

BILLING CODE 3510-DS-M